DEPARTMENT OF ENERGY

10 CFR Part 430

[Docket No. EERE-2011-BT-TP-0061]

RIN 1904-AC65

Energy Conservation Program for Consumer Products and Certain Commercial and Industrial Equipment: Test Procedures for Showerheads, Faucets, Water Closets, Urinals and Commercial Prerinse Spray Valves

AGENCY: Office of Energy Efficiency and Renewable Energy, Department of Energy.

ACTION: Notice of extension of public comment period.

SUMMARY: On April 8, 2013, the U.S. Department of Energy (DOE) published a supplemental notice of proposed rulemaking (SNOPR) for test procedures for showerheads, faucets, water closets, urinals and commercial prerinse spray valves in the Federal Register. This document announces an extension of the public comment period for submitting comments on the SNOPR or any other aspect of this test procedure rulemaking. The comment period is extended to June 7, 2013.

DATES: DOE will accept comments, data, and information regarding this rulemaking received no later than June 7, 2013.

ADDRESSES: Any comments submitted must identify the SNOPR for test procedures for showerheads, faucets, water closets, urinals and commercial prerinse spray valves and provide docket number EERE-2011-BT-TP-0061 and/or Regulation Identification Number (RIN) 1904-AC65, by any of the following methods:

• Federal eRulemaking Portal: http://www.regulations.gov. Follow the instructions for submitting comments.

• Email: PlumbingPrds-2011-TP-0061@ee.doe.gov. Include the docket number EERE-2011-BT-TP-0061 and/or RIN 1904-AC65 in the subject line of the message.

• Mail: Ms. Brenda Edwards, U.S. Department of Energy, Building Technologies Program, Mailstop EE-2J, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza, SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

The rulemaking Web page can be found at:

http://www1.eere.energy.gov/buildings/appliance_standards/rulemaking.aspx/ruleid/15.

This Web page contains links to the interim technical support document and other supporting materials and information for this rulemaking on the regulations.gov site. The regulations.gov Web page contains instructions on how to access all documents in the docket, including public comments.

FOR FURTHER INFORMATION CONTACT: Mr. Lucas Adin, U.S. Department of Energy, Office of Energy Efficiency and Renewable Energy, Building Technologies, EE-2J, 1000 Independence Avenue SW., Washington, DC 20585-0121. Telephone: (202) 287-1317. Email: Lucas.Adin@ee.doe.gov.

In the Office of the General Counsel, contact Ms. Jennifer Tiedeman, U.S. Department of Energy, Office of the General Counsel, GC-71, 1000 Independence Avenue SW, Washington, DC 20585-0121. Telephone: (202) 287-6111. Email: Jennifer.Tiedeman@hq.doe.gov.

SUPPLEMENTARY INFORMATION: On April 8, 2013, DOE published a supplemental notice of proposed rulemaking (SNOPR) in the Federal Register (78 FR 20832) to propose amendments to its May 2012 notice of proposed rulemaking related to test procedures for showerheads, faucets, water closets, urinals, and commercial prerinse spray valves. The notice provided for the submission of comments by May 8, 2013. Plumbing Manufacturers International (PMI) has requested a 30-day extension of the comment period, stating that it needs additional time to fully evaluate the amendments proposed in the SNOPR with all of its members. DOE has determined that an extension of the public comment period is appropriate based on the foregoing reason and is hereby extending the comment period. DOE will consider any comments received by midnight on June 7, 2013, and deems any comments received by that time to be timely submitted.

Issued in Washington, DC, on May 1, 2013.
Kathleen B. Hogan,
Deputy Assistant Secretary for Energy Efficiency, Energy Efficiency and Renewable Energy.

[FR Doc. 2013-10915 Filed 5-7-13; 8:45 am]

BILLING CODE 6450-01-P